SMALL BUSINESS ADMINISTRATION

National Women's Business Council; Meeting

AGENCY: U.S. Small Business Administration.

ACTION: Notice of open Federal advisory committee meeting.

SUMMARY: The SBA is issuing this notice to announce the location, date, time, and agenda for the next meeting of the National Women's Business Council (NWBC). The meeting will be open to the public.

DATES: The meeting will be held on April 4th, 2013 from approximately 9:00 a.m. to 2:30 p.m. EST.

ADDRESSES: The meeting will be in Washington, DC.

SUPPLEMENTARY INFORMATION: Pursuant to section 10(a)(2) of the Federal Advisory Committee Act (5 U.S.C., Appendix 2), SBA announces the meeting of the National Women's Business Council. The National Women's Business Council is tasked with providing policy recommendations on issues of importance to women business owners to the President, Congress, and the SBA Administrator.

The purpose of the meeting is to provide updates on NWBC's current research portfolio and its upcoming research topics and action items for 2013. The topics discussed will include, but are not limited to: Job creation, access to markets, access to capital, reliable data, and expert briefings and opinions on policy and legislative priorities in the 113th Congress that affect the growth of women-owned business.

FOR FURTHER INFORMATION CONTACT: The meeting is open to the public however advance notice of attendance is requested. Anyone wishing to attend or make a presentation to the NWBC must either email their interest to info@nwbc.gov or call the main office number at 202-205-9974.

Those needing special accommodation in order to attend or participate in the meeting, please contact 202-205-9974 no later than March 28, 2013.

For more information, please visit our Web site at www.nwbc.gov.

Anie Borja,
Executive Director, National Women's Business Council.

[FR Doc. 2013-05404 Filed 3-7-13; 8:45 am]

BILLING CODE P